OFFICE OF THE UNITED STATES TRADE REPRESENTATIVE

Generalized System of Preferences (GSP): Deadline Extension and Import Statistics Relating to Competitive Need Limitations

AGENCY: Office of the United States Trade Representative.

ACTION: Notice.

SUMMARY: This notice is to inform the public of (1) an extension to December 20, 2013 of the deadline for submission of petitions to waive competitive need limitations (CNLs) under the Generalized System of Preferences (GSP) program, and (2) the availability of import statistics for the first eight months of 2013 relating to CNLs. Although USTR will receive CNL waiver petitions through December 20, 2013, no action will be taken regarding submitted petitions while the GSP program is without authorization.

FOR FURTHER INFORMATION CONTACT: Contact Keysha Martinez (202-395-9618 or kmartinez@ustr.eop.gov), Director for GSP, Office of the United States Trade Representative.

SUPPLEMENTARY INFORMATION:

I. Competitive Need Limitations

The GSP program provides for the duty-free importation of designated articles when imported from designated beneficiary developing countries (BDCs). The GSP program is authorized by Title V of the Trade Act of 1974 (19 U.S.C. 2461, et seq.), as amended (the “1974 Act”), and is implemented in accordance with Executive Order 11888 of November 24, 1975, as modified by subsequent Executive Orders and proclamations.

Section 503(c)(2)(A) of the 1974 Act sets out the two CNLs. When the President determines that a BDC has exported to the United States during a calendar year either (1) a quantity of a GSP-eligible article having a value in excess of the applicable amount for that year ($160 million for 2013), or (2) a quantity of a GSP-eligible article having a value equal to or greater than 50 percent of the value of total U.S. imports of the article from all countries (the “50 percent CNL”), the President must terminate duty-free treatment under the GSP program for that article from that BDC by no later than July 1 of the next calendar year, unless he waives the CNL. Any CNL-related product exclusions resulting from the 2013 GSP Annual Review will be based on full 2013 calendar-year import statistics.

Under section 503(c)(2)(F) of the 1974 Act, the President may waive the 50 percent CNL with respect to an eligible article imported from a BDC, if the value of total imports of that article from all countries during the calendar year did not exceed the applicable de minimis amount for that year ($21.5 million for 2013).

II. Extension of Deadline for Petitions To Waive CNLs

A notice published in the Federal Register on July 29, 2013 (78 FR 45596) announced the launch of the 2013 GSP Annual Review, including, inter alia, a November 22, 2013, deadline for receipt of petitions from the public to waive the application of CNLs for specific products from certain countries. That deadline has been extended to 5 p.m. on December 20, 2013. Please see the referenced July 29, 2013 Federal Register notice for more information on the procedures for submitting a petition for a CNL waiver.

III. Effect of Lapse in GSP Authorization on the GSP Annual Review

Authorization of the GSP program expired July 31, 2013. USTR will receive petitions for CNL waivers, submitted as part of the 2013 GSP Annual Review, even though the GSP program is without authorization, so that the President can be in a position to take action if Congress acts to reauthorize the GSP program. However, as long as the program remains without authorization, no action will be taken regarding any petitions submitted as part of the 2013 GSP Annual Review, including CNL waiver petitions.

IV. Interim 2013 Import Statistics

Interim import statistics for the first eight months of 2013 relating to CNLs can be viewed on the USTR Web site at: http://www.ustr.gov/trade-topics/trade-development/preference-programs/generalized-system-preferences-gsp/current-revie-0. The interim 2013 import statistics are organized to show, for each article, the Harmonized Tariff Schedule of the United States (HTSUS) subheading and BDC of origin, the value of imports of the article from the specified country for the first eight months of 2013, and the corresponding share of total imports of that article from all countries. The list includes the GSP-eligible articles from BDCs that, based on interim eight-month 2013 data, exceed $105 million dollars, or an amount greater than 42 percent of the total value of U.S. imports of that product and therefore may be on track to exceed the applicable thresholds.

The list published on the USTR Web site includes the relevant eight-month trade statistics for each of these products and is provided as a courtesy for informational purposes only. The list is based on interim 2013 trade data, and may not include all articles that may be affected by a CNL. Regardless of whether or not an article is included on the list referenced in this notice, all determinations and decisions regarding application of the CNLs will be based on full calendar-year 2013 import data for each GSP-eligible article. Each interested party is advised to conduct its own review of 2013 import data with regard to the possible application of CNLs.

Full calendar-year 2013 data for individual tariff subheadings are expected to be available in February 2014 on the http://dataweb.usitc.gov/ Web site of the U.S. International Trade Commission.

William D. Jackson,
Deputy Assistant U.S. Trade Representative for GSP, Chairman, GSP Subcommittee of the Trade Policy Staff Committee.

[FR Doc. 2013-27986 Filed 11-21-13; 8:45 am]

BILLING CODE 3290-F4-P